DEPARTMENT OF THE INTERIOR

Fish and Wildlife Service

Endangered and Threatened Wildlife and Plants; Initiation of a 5-Year Review of Ten Listed Northeastern Species

AGENCY: Fish and Wildlife Service, Interior.

ACTION: Notice.

SUMMARY: Pursuant to section 4(c)(2)(A) of the Endangered Species Act of 1973 (ESA), we, the U.S. Fish and Wildlife Service (Service), announce a 5-year review of 10 northeastern species. A 5-year review is a periodic process conducted to ensure that the listing classification of a species is accurate. A 5-year review is based on the best scientific and commercial data available at the time of the review; therefore, we are requesting submission of any such information that has become available since the original listing of the species as endangered or threatened. Based on the results of these 5-year reviews, we will make the requisite findings under section 4(c)(2)(B) of the ESA.

DATES: To allow us adequate time to conduct this review, we must receive your information no later than March 30, 2007. However, we will continue to accept new information about any listed species at any time.

ADDRESSES: Submit information to the U.S. Fish and Wildlife Service, Northeast Regional Office, 300 Westgate Center Drive, Hadley, MA 01035, to the attention of Ms. Mary Parkin. Information received in response to this notice and review will be available for public inspection, by appointment, during normal business hours, at the above address. Information may also be sent to Mary_Parkin@fws.gov.

FOR FURTHER INFORMATION CONTACT: Ms. Mary Parkin at the above address or at 617-876-6173.

SUPPLEMENTARY INFORMATION: Under the ESA 16 U.S.C. 1531 et seq.), the Service maintains a list of endangered and threatened wildlife and plant species at 50 CFR 17.11 (for animals) and 17.12 (for plants). Section 4(c)(2)(A) of the ESA requires that we conduct a review of listed species at least once every 5 years. Then, on the basis of such reviews under section 4(c)(2)(B), we determine whether or not any species should be removed from the list (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the endangered Maryland darter (Etheostoma sellare), eastern cougar (Puma (=Felis) concolor couguar), Virginia fringed mountain snail (Polygyriscus virginianus), Virginia big-eared bat (Corynorhinus (=Plecotus) townsendii virginianus), Hay's Spring amphipod (Stygobromus hayi), American burying beetle (Nicrophorus americanus), and Lee County Cave isopod (Lirceus usdagalun), as well as the threatened Knieskern's beaked-rush (Rhyncospora knieskernii), bog turtle (Clemmys muhlenbergii), and small whorled pogonia (Isotria medeoloides).

Public Solicitation of New Information

To ensure that the 5-year review is complete and based on the best available scientific and commercial information, we are soliciting new information from the public, concerned governmental agencies, Tribes, the scientific community, industry, environmental entities, and any other interested parties concerning the status of the following endangered species since their original listings: The Maryland darter in 1967 (32 FR 4001) with Critical Habitat in 1984 (49 FR 34228-34232); eastern cougar in 1973 (38 FR 14678); Virginia fringed mountain snail in 1978 (43 FR 28932-28935); Virginia big-eared bat in 1979 with Critical Habitat (44 FR 69206-69208); Hay's Spring amphipod in 1982 (47 FR 5425-5427); American burying beetle in 1989 (54 FR 29652-29655); and the Lee County Cave isopod in 1992 (57 FR 54722-54726). In addition, we are requesting submission of any such information that has become available since the original listing of the following species as threatened: The Knieskern's beaked-rush in 1991 (56 FR 32978 32983); and bog turtle in 1997 (62 FR 59605-59623); as well as the revised listing of the small whorled pogonia as threatened in 1994 (59 FR 50852-50857).

The 5-year review considers the best scientific and commercial data and all new information that has become available since the listing determination or most recent status review. Categories of requested information include: (A) Species biology, including but not limited to, population trends, distribution, abundance, demographics, and genetics; (B) habitat conditions, including but not limited to, amount, distribution, and suitability; (C) conservation measures that have been implemented that benefit the species; (D) threat status and trends; and (E) other new information, data, or corrections—including but not limited to, taxonomic or nomenclatural changes, identification of erroneous information contained in the list, and improved analytical methods.

If you wish to provide information for this 5-year review, you may submit your comments and materials to Ms. Mary Parkin (see ADDRESSES section).

Our practice is to make comments, including names and home addresses of respondents, available for public review, by appointment, during regular business hours (see ADDRESSES section). Individual respondents may request that we withhold their name and/or home address, etc., but if you wish us to consider withholding this information, you must state this prominently at the beginning of your comments. In addition, you must present rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Authority: This document is published under the authority of the Endangered Species Act of 1973, as amended (16 U.S.C. 1531).

Dated: December 4, 2006.
Richard O. Bennett,
Regional Director, Northeast Region, Fish and Wildlife Service.

[FR Doc. E7-1315 Filed 1-26-07; 8:45 am]

BILLING CODE 4310-55-P